DEPARTMENT OF HEALTH AND HUMAN SERVICES

Centers for Disease Control and Prevention

[30DAY-22-02]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: Statement in Support of Application For Waiver of Inadmissibility OMB No. 0920-0006—Extension—National Center for Infectious Diseases (NCID), Centers for Disease Control and Prevention (CDC).

Section 212(a)(1) of the Immigration and Nationality Act states that aliens with specific health-related conditions are ineligible to receive visas and ineligible for admission into the United States. The Attorney General may waive application of this inadmissibility on health-related grounds if an application for waiver is filed and approved by the consular office considering the application for a visa. The Division of Migration and Quarantine, NCID uses this application primarily to collect information to establish and maintain records of waiver applicants in order to notify the Immigration and Naturalization Service when terms, conditions and controls imposed by waiver are not met. NCID is requesting the extension of this data for 3 years. There total estimated annualize burden is 167 hours.

Respondents or each section | Number respondents | Number of responses/ respondents | Avg. burden/response (in hours)
Physicians Form CDC 4.422-1 | 200 | 1 | 10/60
Physicians Form CDC 4.422-1a | 200 | 1 | 20/60
Physicians Form CDC 4.422.1b | 200 | 1 | 20/60

Dated: April 10, 2002.
Nancy E. Cheal,
Acting Deputy Director for Policy, Planning and Evaluation, Centers for Disease Control and Prevention.

[FR Doc. 02-9382 Filed 4-17-02; 8:45 am]

BILLING CODE 4163-18-P